CORPORATION FOR NATIONAL AND COMMUNITY SERVICE

Information Collection; Submission for OMB Review, Comment Request

AGENCY: Corporation for National and Community Service.

ACTION: Notice.

SUMMARY: The Corporation for National and Community Service (hereinafter the “Corporation”) has submitted a public information collection request (ICR) to the Office of Management and Budget (OMB) for review and approval in accordance with the Paperwork Reduction Act of 1995, Public Law 104-13, (44 U.S.C. Chapter 35). Copies of this ICR, with applicable supporting documentation, may be obtained by calling the Corporation for National and Community Service, Ms. Angela Roberts, at (202) 606-6822, (aroberts@cns.gov); (TTY/TDD) at (202) 606-5256 between the hours of 9 a.m. and 4 p.m. Eastern Time, Monday through Friday.

DATES: Comments may be submitted, identified by the title of the information collection activity, to the Office of Information and Regulatory Affairs, Attn: Ms. Sharon Mar, OMB Desk Officer for the Corporation for National and Community Service, by any of the following two methods within 30 days from the date of publication in this Federal Register:

(1) By fax to: (202) 395-6974, Attention: Ms. Sharon Mar, OMB Desk Officer for the Corporation for National and Community Service; and

(2) Electronically by e-mail to: smar@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and

• Minimize the burden of the collection of information on those who are to respond, including the use of appropriate automated, electronic, mechanical, or other technological collection techniques or other forms of information technology, e.g., permitting electronic submissions of responses.

Comments

A 60-day public comment Notice, regarding modification of the Project Progress Report was published in the Federal Register on March 12, 2010. This comment period ended on May 12, 2010. A total of 10 responses were received. The summary of comments received is as follows:

(a) Eight comments supported the suggested changes and noted that the proposed revisions will make reporting easier and more streamlined, and will significantly reduce the reporting burden. (b) Two comments encouraged the Corporation to retain the current Progress Report submission schedule of semi-annually to help ensure that Senior Corps grantees provide current data at a higher frequency than annual. The Corporation disagrees with the two commenters. We believe that requiring Progress Reports on an annual basis will provide sufficiently accurate data, while improving efficiency and alleviating the burden on sponsors of Senior Corps grants. Note, however, that we will continue to collect a limited amount of data from Foster Grandparent Program and Senior Companion Program sponsors on a semi-annual basis to track volunteer production on a schedule coinciding with the Federal Financial Report (FFR).

Type of Review: Revision of a currently approved collection.

Agency: Corporation for National and Community Service.

Title: National Senior Service Corps (Senior Corps) Project Progress Report.

OMB Number: 3045-0033.

Agency Number: CNCS Form 1020.

Affected Public: Sponsors of Senior Corps grants.

Total Respondents: 1,300.

Frequency: Annual

Average Time per Respondent: 4 hours annually.

Estimated Total Burden Hours: 5,400

Total Burden Cost (capital/startup): None.

Total Burden Cost (operating/maintenance): None

Description: The Corporation seeks to renew and revise the current OMB approved Progress Report. When revised, the Progress Report will: (a) Modify the reporting frequency by Senior Corps grantees from semi-annual to annual. The one exception to annual reporting is the requirement that Foster Grandparent Program and Senior Companion Program grantees will report on a total of 4 data elements at each 6-month interval to ensure that the Corporation can track and analyze volunteer production rates. For all Senior Corps grantees, submission of the full Progress Report, including narratives, work plan updates, and other elements, will be annual.

The Project Progress Report (PPR) was designed to assure that Senior Corps grantees address and fulfill legislated program purposes, meet agency program management and grant requirements, and assess progress toward work plan objectives agreed upon in the granting of the award.

Dated: June 14, 2010.
Angela Roberts,
Acting Director, Senior Corps.

[FR Doc. 2010-14709 Filed 6-17-10; 8:45 am]

BILLING CODE 6050-$$-P